DEPARTMENT OF JUSTICE

Parole Commission

Public Announcement; Pursuant to the Government in the Sunshine Act (Public Law 94-409) (5 U.S.C. 552b)

Agency Holding Meeting: Department of Justice, United States Parole Commission.

Time and Date: 2 p.m., Friday, July 14, 2006.

Place: 5550 Friendship Blvd., Fourth Floor, Chevy Chase, MD 20815.

Status: Open.

Matters To Be Considered: The meeting is being held to discuss the agency's budget for Fiscal Year 2008.

Agency Contact: Thomas W. Hutchison, Chief of Staff, United States Parole Commission. (301) 492-5959.

Dated: July 6, 2006.
Rockne Chickinell,
General Counsel, U.S. Parole Commission.

[FR Doc. 06-6154 Filed 7-7-06; 11:17 am]

BILLING CODE 4410-31-M